Title 3—

The President

Proclamation 10524 of February 28, 2023

American Red Cross Month, 2023

By the President of the United States of America

A Proclamation

In the aftermath of the Civil War, Clara Barton founded the American Red Cross. Its national headquarters, just a few blocks from the White House, was built as a memorial to the women of the Civil War. For nearly 142 years, the employees, volunteers, and supporters of the American Red Cross have met loss and disaster with compassion and care. They remind us that we must leave no one behind. This month, we celebrate the ordinary citizens who perform extraordinary acts of service, and we honor the Red Cross for its commitment to making our country and world a better place.

Across America, I have seen the work of the Red Cross firsthand. When hurricanes make landfall and floodwaters rise, the Red Cross is ready to provide food, shelter, and emergency supplies. When wildfires spread and tornadoes uproot communities, volunteers arrive from around the country to help survivors heal, recover, and rebuild. We have also turned to the American Red Cross to respond to crises overseas in the wake of natural disasters and in preparation for emergencies before they happen. The old saying is still true today: The Red Cross is always there.

During American Red Cross Month, I encourage Americans to learn more about the steps involved in donating blood by visiting redcross.org. If you can give blood, I hope you will. I also encourage Americans to learn or teach first aid and to participate in Sound the Alarm events to prevent home fires. It is in our Nation's DNA to lift each other up, especially on the frontlines of emergencies and disasters. I know that Americans will always answer the call—doing whatever it takes for as long as it takes to help out those in need.

NOW, THEREFORE, I, JOSEPH R. BIDEN JR., President of the United States of America and Honorary Chair of the American Red Cross, by virtue of the authority vested in me by the Constitution and the laws of the United States, do hereby proclaim March 2023 as American Red Cross Month. I encourage all Americans to observe this month with relevant programs, ceremonies, and activities, and to support the work of service and relief organizations.

IN WITNESS WHEREOF, I have hereunto set my hand this twenty-eighth day of February, in the year of our Lord two thousand twenty-three, and of the Independence of the United States of America the two hundred and forty-seventh.

[FR Doc. 2023-04543

Filed 3-2-23; 8:45 am]

Billing code 3395-F3-P